DEPARTMENT OF COMMERCE

Membership of the Departmental Performance Review Board

AGENCY: Department of Commerce.

ACTION: Notice of Membership on the Departmental Performance Review Board.

SUMMARY: In accordance with 5 U.S.C., 4314 (c)(4), Department of Commerce (DOC) announces the appointment of persons to serve as members of the Departmental Performance Review Board (DPRB). The DPRB provides an objective peer review of the initial performance ratings, performance-based pay adjustments and bonus recommendations, higher-level review requests and other performance-related actions submitted by appointing authorities for Senior Executive Service (SES) members whom they directly supervise, and makes recommendations based upon its review. The term of the new members of the DPRB will expire December 31, 2014.

DATES: Effective Date: The effective date of service of appointees to the Departmental Performance Review Board is based upon publication of this notice.

FOR FURTHER INFORMATION CONTACT: Denise A. Yaag, Director, Office of Executive Resources, Office of Human Resources Management, Office of the Director, 14th and Constitution Avenue NW., Washington, DC 20230, (202) 482-3600.

SUPPLEMENTARY INFORMATION: The names and position titles of the members of the DPRB are set forth below by organization:

Department of Commerce

Departmental Performance Review Board Membership

2012-2014

Office of the Secretary

Ellen Herbst, Senior Advisor for Policy & Program Integration

Office of General Counsel

Michael A. Levitt, Assistant General Counsel for Legislation and Regulation

Barbara S. Fredericks, Assistant General Counsel for Administration

Geovette E. Washington, Deputy General Counsel

Office of the Chief Financial Officer and Assistant Secretary for Administration

Frederick E. Stephens, Deputy Assistant Secretary for Administration

William J. Fleming, Director for Human Resources Management

Bureau of Industry and Security

Gay G. Shrum, Director of Administration Bureau of the Census

Nancy Potok, Deputy Director

Economics and Statistics Administration

Kenneth A. Arnold, Associate Under Secretary for Management

Joanne Buenzli Crane, Chief Financial Officer and Director for Administration

Economics and Development Administration

Thomas Guevara, Deputy Assistant Secretary for Regional Affairs

Sandra Walters, Chief Financial Officer and Director of Administration

International Trade Administration

Maureen R. Smith, Deputy Assistant Secretary for Manufacturing and Services

Rene A. Macklin, Chief Information Officer

Minority Business Development Agency

Alejandra Y. Castillo, Deputy Director

Edith J. McCloud, Associate Director for Management

National Oceanic and Atmospheric Administration

Edward C. Norton, Chief Administrative Officer

Joseph F. Klimavicz, Chief Information Officer and Director of High Performance Computing and Communications

Kathleen A. Kelly, Director, Office of Satellite Operations, NESDIS

National Technical Information Service

Bruce E. Borzino, Director, National Technical Information Service

National Telecommunications and Information Administration

Anna M. Gomez, Deputy Assistant Secretary for Communications and Information

Bernadette McGuire-Rivera, Associate Administrator for Telecommunications and Information Applications

National Institute of Standards and Technology

Richard F. Kayser, Jr., Chief Safety Officer

Dated: September 28, 2012.
Denise A. Yaag,
Director, Office of Executive Resources.

[FR Doc. 2012-24774 Filed 10-9-12; 8:45 am]

BILLING CODE 3510-BS-M